DEPARTMENT OF DEFENSE

Department of the Navy

Meetings of the Naval Research Advisory Committee

AGENCY: Department of the Navy, DOD.

ACTION: Notice of closed meetings.

SUMMARY: The Naval Research Advisory Committee (NRAC) will meet to hold classified briefs of proprietary information. All sessions of the meetings will be devoted to briefings, discussions, and technical examination of information related to the relationship of science and technology to modular systems acquisitions, system engineering, open architectures and spiral development and to make recommendations for improving these relationships where appropriate. The sessions will also identify and analyze cost effective and technically feasible high speed, high capacity connectors to close a Marine Expeditionary Brigade from the continental U.S. to a sea base and operate forces from the sea base to objectives ashore.

DATES: The meetings will be held on Monday, July 26, 2004, through Friday, July 30, 2004, from 8 a.m. to 5 p.m.; Monday, August 2, 2004, through Thursday, August 5, 2004, from 8 a.m. to 5 p.m.; and Friday, August 6, 2004, from 8 a.m. to 11 a.m.

ADDRESSES: The meetings will be held at the Naval Postgraduate School, Monterey, CA 93943.

FOR FURTHER INFORMATION CONTACT: Dennis Ryan, Program Director, Naval Research Advisory Committee, 800 North Quincy Street, Arlington, VA 22217-5660, (703) 696-6769.

SUPPLEMENTARY INFORMATION: This notice is provided in accordance with the provisions of the Federal Advisory Committee Act (5 U.S.C. App. 2). All sessions of the meetings will be devoted to executive sessions that will include discussions and technical examination of information related to sea basing technologies. These briefings and discussions will contain proprietary information and classified information that is specifically authorized under criteria established by Executive Order to be kept secret in the interest of national defense and are in fact properly classified pursuant to such Executive Order. The proprietary, classified and non-classified matters to be discussed are so inextricably intertwined as to preclude opening any portion of the meetings. In accordance with 5 U.S.C. App. 2, section 10(d), the Secretary of the Navy has determined in writing that the public interest requires that all sessions of the meetings be closed to the public because they will be concerned with matters listed in 5 U.S.C. section 552b(c)(1) and (4).

Dated: July 6, 2004.
J.T. Baltimore,
Lieutenant Commander, Judge Advocate General's Corps, U.S. Navy, Alternate Federal Register Liaison Officer.

[FR Doc. 04-15798 Filed 7-9-04; 8:45 am]

BILLING CODE 3810-FF-P